COMMITTEE FOR PURCHASE FROM PEOPLE WHO ARE BLIND OR SEVERELY DISABLED

Procurement List; Change

AGENCY: Committee for Purchase From People Who Are Blind or Severely Disabled.

ACTION: Change to the Procurement List.

SUMMARY: This action changes service additions to the Procurement List that are furnished by nonprofit agencies employing persons who are blind or have other severe disabilities.

DATES: Comments must be received on or before: December 20, 2025.

ADDRESSES: Committee for Purchase From People Who Are Blind or Severely Disabled, 355 E Street SW, Washington, DC 20024.

FOR FURTHER INFORMATION CONTACT: Michael R. Jurkowski, Telephone: (703) 489-1322, or email CMTEFedReg@AbilityOne.gov.

SUPPLEMENTARY INFORMATION:

Changes

If the Committee approves the change to the Procurement List, the entities of the Federal Government identified in this notice will be required to procure the service(s) listed below from nonprofit agencies employing persons who are blind or have other severe disabilities.

Regulatory Flexibility Act Certification

I certify that the following action will not have a significant impact on any small entities. The major factors considered for this certification were:

1. The action did not result in any additional reporting, recordkeeping, or other compliance requirements for small entities other than the nonprofit agencies furnishing the services to the Government.

2. The action did result in authorizing nonprofit agencies to furnish the products to the Government.

3. There were no known regulatory alternatives which would have accomplished the objectives of the Javits-Wagner-O'Day Act (41 U.S.C. 8501-8506) in connection with the products added to the Procurement List.

End of Certification

The following is the intended change to the service currently on the Procurement List:

Service(s)

Service Type: Contact Center Service

Mandatory for: GSA PBS Region 3, Defense Manpower Data Center (CONUS), Fort Knox, KY

The Committee for Purchase From People Who Are Blind or Severely Disabled (Committee), is announcing that Chimes District of Columbia, Washington, DC and InspiriTec, Inc., Philadelphia, PA were recommended to the Committee to serve as mandatory sources for the GSA PBS Region 3, Defense Manpower Data Center (CONUS), Fort Knox, KY.

This is the Phase I competitive distribution Opportunity Notice to provide the Defense Manpower Data Center (DMDC) with operation and continuous enhancement of a multi-channel contact center for the DMDC and its associated programs. The Contractor shall provide customer service operations, including Tier 1 and Tier 2 support, and shall provide scalable, secure, and high-quality service delivery that meets the Government's mission needs.

The Contractor shall provide all personnel, operational oversight, and program management necessary to support contact center functions, ensuring compliance with all applicable policies, regulations, and performance standards. The Contractor shall also be responsible for adapting to changing requirements, including potential legislative and policy changes, and supporting new and evolving customer service needs throughout the period of performance. Critically, the Contractor will operate within DMDC's modernized, cloud-native contact center solution on AWS, leveraging AI-powered tools and expanded communication channels to achieve efficiencies and enhanced customer experience following the transition by Q4 FY25. The Contractor will collaborate with DMDC during the transition to ensure a seamless cutover and minimal disruption to customer service.

If the Commission determines that a competitive distribution is appropriate in accordance with 41 CFR 51-3.4, Phase II will proceed once two or more recommended sources have been authorized by the Commission.

Michael R. Jurkowski,
Director, Business Operations.

[FR Doc. 2025-20429 Filed 11-19-25; 8:45 am]

BILLING CODE 6353-01-P